Title 3—

The President

Proclamation 9646 of September 28, 2017

National Disability Employment Awareness Month, 2017

By the President of the United States of America

A Proclamation

During National Disability Employment Awareness Month, we celebrate the many contributions of American workers with disabilities and reaffirm our admiration of the skills and talents they bring to today's workplace.

Every American who is willing and able to work should have the opportunity to provide for themselves and their families. This includes the 30 million American adults with disabilities. Many Americans with disabilities struggle to find employment opportunities, despite the wealth of skills they have to offer. In 2016, only 27.7 percent of working-age Americans with disabilities were employed. More employers should recognize the fresh perspectives and skills these men and women can add to an innovation-focused workforce. They are an incredible asset to our economy. Our goal is to help ensure that they experience the independence, economic self-sufficiency, pride, and community that come with a job.

Creating and maintaining a strong and robust American workforce is one of my Administration's top priorities. We will ensure that people who want to work have the support they need to remain on the job. Employees, along with their employers, their families, and the economy all suffer when they are forced to leave the labor force due to illness or accident. We must be able to act quickly to support these workers in their time of need. I, therefore, have directed the Department of Labor, the Social Security Administration, and other Federal agencies to identify effective strategies to help people stay at work or return to work, focusing on early intervention with Americans recently rendered disabled due to injury or a health condition.

We are committed to giving all Americans opportunities to gain the skills they need to fill the jobs of the 21st century. We know that includes Americans with disabilities, who want to work, provide for themselves and their families, contribute to their communities, and build up our Nation. We will stand alongside them to help turn their American Dreams into reality.

The Congress, by Joint Resolution approved August 11, 1945, as amended (36 U.S.C. 121), has designated October of each year as “National Disability Employment Awareness Month.”

NOW, THEREFORE, I, DONALD J. TRUMP, President of the United States of America, do hereby proclaim October 2017 as National Disability Employment Awareness Month. I call upon government and labor leaders, employers, and the great people of the United States to recognize the month with appropriate programs, ceremonies, and activities across our land.

IN WITNESS WHEREOF, I have hereunto set my hand this twenty-eighth day of September, in the year of our Lord two thousand seventeen, and of the Independence of the United States of America the two hundred and forty-second.

[FR Doc. 2017-21549

Filed 10-3-17; 11:15 am]

Billing code 3295-F7-P